ENVIRONMENTAL PROTECTION AGENCY

[ER-FRL-9055-3]

Environmental Impact Statements; Notice of Availability

Responsible Agency: Office of Federal Activities, General Information 202-564-5632 or https://www.epa.gov/nepa.

Weekly receipt of Environmental Impact Statements (EIS)

Filed February 1, 2021 10 a.m. EST Through February 8, 2021 10 a.m. EST

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20210017, Final, FEMA, CT, ADOPTION—Resilient Bridgeport, Review Period Ends: 03/15/2021, Contact: Eric Kuns 202-805-9089.

The Federal Emergency Management Agency (FEMA) has adopted the Connecticut Department of Housing Final EIS No. 20190215, filed 08/29/2019 with EPA. FEMA was not a cooperating agency on this project. Therefore, republication of the document is necessary under Section 1506.3(b)(1) of the CEQ regulations.

EIS No. 20210018, Final, BLM, CA, Crimson Solar Project Final Environmental Impact Statement and Proposed Land Use Amendment to the California Desert Conservation Area Plan, Review Period Ends: 03/15/2021, Contact: Miriam Liberatore 951-697-5200.

Amended Notice

EIS No. 20200223, Draft, NRC, NM, Disposal of Mine Waste at the United Nuclear Corporation Mill Site in McKinley County, New Mexico, Comment Period Ends: 05/27/2021, Contact: Ashley Waldron 301-415-7317. Revision to FR Notice Published 12/23/2020; Extending the Comment Period from 02/26/2021 to 05/27/2021.

EIS No. 20200239, Draft, MARAD, USCG, TX, Texas Gulflink Deepwater Port License Application, Comment Period Ends: 01/22/2021, Contact: Brad McKitrick 202-372-1443. Revision to FR Notice Published 11/27/2020; Correcting the Comment Period Due Date from 01/11/2021 to 01/22/2021; and Correcting the Lead Agency to include MARAD.

EIS No. 20200263, Draft, DOE, ID, Draft Versatile Test Reactor Environment Impact Statement, Comment Period Ends: 03/02/2021, Contact: James Lovejoy 208-526-6805. Revision to FR Notice Published 12/31/2020; Extending the Comment Period from 02/16/2021 to 03/02/2021.

Dated: February 8, 2021.
Cindy S. Barger,
Director, NEPA Compliance Division, Office of Federal Activities.

[FR Doc. 2021-02888 Filed 2-11-21; 8:45 am]

BILLING CODE 6560-50-P